DEPARTMENT OF STATE

[Public Notice 7169]

U.S. Department of State Advisory Committee on Private International Law (ACPIL): Online Dispute Resolution (ODR) Study Group

The Department of State, Office of Legal Adviser, Office of Private International Law would like to give notice of a public meeting to discuss upcoming work in UNCITRAL on the development of legal instruments regarding online dispute resolution for resolving both business to business (B2B) and business to consumer (B2C) disputes, as well as the U.S. ODR initiative pending in the OAS through the Seventh Inter-American Specialized Conference on Private International Law (CIDIP-VII). The meeting of the ODR Study Group will take place on Monday, November 22, 2010 from 10 a.m. to 12:30 p.m. EST at the Department of State, Office of Private International Law, 1800 N. Kent Street, Suite 4095, Arlington, VA. This is not a meeting of the full Advisory Committee but rather a meeting of one of its study groups.

The meeting of the new UNCITRAL working group on ODR will take place December 13-17 in Vienna. See the following link for the annotated provisional agenda for that meeting: http://www.uncitral.org/uncitral/commission/working_groups/3Online_Dispute_Resolution.html.

Please see the following link for the report on the UNCITRAL colloquium on ODR held last spring in Vienna. The relevant report is number A/CN.9/707: http://www.uncitral.org/uncitral/commission/sessions/43rd.html.

You can also use the following link for the U.S. ODR initiative pending in the OAS for CIDIP-VII: http://www.oas.org/dil/esp/CIDIP-VII_doc_trabajo_gt_proteccion_consumidor_anexo_A__Borrador_Ley_Marco_Cooperativo_Modelo_Solucion_Electro.pdf. This initiative provides for electronic resolution of cross-border B2C e-commerce contract disputes on the basis of a state-sponsored cooperative framework and model rules.

Time and Place: The public meeting of the ODR Study Group will take place on Monday, November 22, 2010 from 10 a.m. to 12:30 p.m. EST at the Department of State, Office of Private International Law, 1800 N. Kent Street, Suite 4095, Arlington, VA (Rosslyn). If you are unable to attend the public meeting and would like to participate from a remote location, teleconferencing will be available.

Public Participation: This study group meeting is open to the public, subject to the capacity of the meeting room. Access to the meeting building is controlled; persons wishing to attend should contact Trisha Smeltzer or Niesha Toms of the Department of State Legal Adviser's Office at SmeltzerTK@state.gov or TomsNN@state.gov and provide your name, affiliation, e-mail address, and mailing address to get admission into the meeting. Persons who cannot attend but who wish to comment are welcome to do so by e-mail to Michael Dennis at DennisMJ@state.gov or Hugh Stevenson at hstevenson@ftc.gov. A member of the public needing reasonable accommodation should advise those same contacts not later than November 15th. Requests made after that date will be considered, but might not be able to be fulfilled. If you are unable to attend the public meeting and you would like to participate by teleconferencing, please contact Tricia Smeltzer or Niesha Toms at 703-812-2382 to receive the conference call-in number and the relevant information.

Dated: October 13, 2010.
Keith Loken,
Assistant Legal Adviser, Office of Private International Law, Office of the Legal Adviser, Department of State.

[FR Doc. 2010-27297 Filed 10-27-10; 8:45 am]

BILLING CODE 4710-08-P